DEPARTMENT OF TRANSPORTATION

Office of the Secretary

Aviation Proceedings, Agreements Filed the Week Ending April 16, 2004

The following Agreements were filed with the Department of Transportation under the provisions of 49 U.S.C. 412 and 414. Answers may be filed within 21 days after the filing of the application.

Docket Number: OST-2004-17585.

Date Filed: April 16, 2004.

Parties: Members of the International Air Transport Association.

Subject: CSC/26/Meet/004/2004 dated April 14, 2004. Expedited Rescission of Resolutions r1-3. Intended effective date: expedited May 1, 2004.

Andrea M. Jenkins,
Program Manager, Docket Operations, Federal Register Liaison.

[FR Doc. 04-9627 Filed 4-27-04; 8:45 am]

BILLING CODE 4910-62-P